DEPARTMENT OF ENERGY

Federal Energy Regulatory Commission

[Project No. 2416-009 South Carolina]

Aquenergy Systems, Inc.; Notice of Availability of Draft Environmental Assessment

October 19, 2001.

In accordance with the National Environmental Policy Act of 1969 and the Federal Energy Regulatory Commission's (Commission) regulations, 18 CFR Part 380 (Order No. 486, 52 FR 47897), the Office of Energy Projects has reviewed the application for license for the Ware Shoals Hydroelectric Project and has prepared a Draft Environmental Assessment (DEA) for the project. The project is located on the Saluda River, in the Town of Ware Shoals, within the counties of Laurens, Greenwood, and Abbeville, South Carolina. No federal lands or facilities are occupied or used by the project

The DEA contains the staff's analysis of the potential environmental impacts of the project and concludes that licensing the project, with appropriate environmental protective measures, would not constitute a major federal action that would significantly affect the quality of the human environment.

A copy of the DEA is on file with the Commission and is available for public inspection. The DEA may also be viewed on the web at http://www.ferc.gov using the “RIMS” link—select “Docket#” and follow the instructions (call 202-208-2222 for assistance).

Any comments should be filed within 30 days from the date of this notice and should be addressed to David P. Boergers, Secretary, Federal Energy Regulatory Commission, 888 First Street, NE, Washington, D.C. 20426. Please affix Project No. 2416-009 to all comments. Comments may be filed electronically via the Internet in lieu of paper. See 18 CFR 385.2001(a)(1)(iii) and the instructions on the Commission's web site under the “e-Filing” link.

For further information, contact Timothy Looney at (202) 219-2852.

Linwood A. Watson, Jr.,
Acting Secretary.

[FR Doc. 01-26854 Filed 10-24-01; 8:45 am]

BILLING CODE 6717-01-P